DEPARTMENT OF JUSTICE

Antitrust Division

Notice Pursuant to the National Cooperative Research and Production Act of 1993—VSI Alliance

Notice is hereby given that, on October 8, 2004, pursuant to section 6(a) of the National Cooperative Research and Production Act of 1993, 15 U.S.C. 4301 et seq. (“the Act”), VSI Alliance has filed written notifications simultaneously with the Attorney General and the Federal Trade Commission disclosing changes in its membership status. The notifications were filed for the purpose of extending the Act's provisions limiting the recovery of antitrust plaintiffs to actual damages under specified circumstances. Specifically, Microelectronics Research Institute “PROGRESS”, Moscow, RUSSIA; and David Gardner (individual member), Round Rock, TX have been added as parties to this venture.

Also, Alcatel, Edegem, BELGIUM; Bob Altizer (individual member), Phoenix, AZ; Guy Bois (individual member), Montreal, Quebec, CANADA; Annette Bunker (individual member), Salt Lake City, UT; Ramesh Chandra (individual member), San Diego, CA; Edoardo Charbon (individual member), Berkeley, CA; Lee Dilley (individual member), Doylestown, PA; Dolphin Technology, San Jose, CA; GDA Technology, Karnatake, INDIA; Qun Ge (individual member), Shanghai, PEOPLE'S REPUBLIC OF CHINA; David Greenstein (individual member), Cupertino, CA; Carolyn Hayden, Ottawa, Ontario, CANADA; HD Labs, Yokohama, JAPAN; Robert Helt (individual member), Moraga, CA; IPTC Corporation, Yokohama, JAPAN; Gerald Keeler (individual member), San Francisco, CA; Alfred Kwok (individual member), San Jose, CA; Kun-Bin Lee (individual member), Hsinchu, TAIWAN; Samy Makar (individual member), Fremont, CA; Microelectronics Center of Harbin Institute of Technology, Harbin, PEOPLE'S REPUBLIC OF CHINA; Seijiro Moriyama (individual member), Kohoku-ku, JAPAN; Miodrag Potkonjak (individual member), Los Angeles, CA; Hardy Pottinger (individual member), Rolla, MO; Gang Qu (individual member), College Park, MD; Alberto Sangiovanni-Vincentelli (individual member), Berkeley, CA; Richard Stolzman (individual member), Campbell, CA; Patrick Sullivan (individual member), Palo Alto, CA; James Tobias (individual member), San Jose, CA; Kumar Venkatramani (individual member), Saratoga, CA; Joe Villella (individual member), Palo Alto, CA; and Kurt Woodland (individual member), Morgan Hill, CA have been dropped as parties to this venture.

No other changes have been made in either the membership or planned activity of the group research project remains open, and VSI Alliance intends to file additional written notification disclosing all changes in membership.

On November 29, 1996, VSI Aliance filed its original notification pursuant to section 6(a) of the Act. The Department of Justice published a notice in the Federal Register pursuant to Section 6(b) of the Act on March 4, 1997 (62 FR 9812).

The last notification was filed with the Department on July 12, 2004. A notice was published in the Federal Register pursuant to section 6(b) of the Act on August 18, 2004 (69 FR 51330).

Dorothy B. Fountain,
Deputy Director of Operations, Antitrust Division.

[FR Doc. 04-26617 Filed 12-2-04; 8:45 am]

BILLING CODE 4410-11-M